OFFICE OF PERSONNEL MANAGEMENT

5 CFR Part 537

RIN 3206-AK37

Repayment of Student Loans

AGENCY: Office of Personnel Management.

ACTION: Final rule.

SUMMARY: The Office of Personnel Management is issuing final regulations to implement provisions of the Federal Employee Student Loan Assistance Act which increase the maximum amounts Federal agencies are authorized to repay under the Federal student loan repayment program.

DATES: The regulations are effective April 20, 2004.

FOR FURTHER INFORMATION CONTACT: Gene Holson by telephone at (202) 606-2858; by fax at (202) 606-0824; or by e-mail at pay-performance-policy@opm.gov.

SUPPLEMENTARY INFORMATION: The Office of Personnel Management (OPM) is issuing final regulations to implement provisions of the Federal Employee Student Loan Assistance Act (Pub. L. 108-123, Nov. 11, 2003) which increase the maximum amounts Federal agencies are authorized to repay under the Federal student loan repayment program. The Act amended 5 U.S.C. 5379, which provides agencies with the authority to repay student loans on behalf of candidates for Federal jobs or current Federal employees to recruit and retain highly qualified personnel. The statutory amendment increases the limitations on payments authorized by an agency from $6,000 to $10,000 per employee in any calendar year and from $40,000 to a total of $60,000 for any one employee. Subsequently, section 1123 of the National Defense Authorization Act for Fiscal Year 2004 (Pub. L. 108-136, November 24, 2003) also contained an amendment to 5 U.S.C. 5379 to increase the maximum amount Federal agencies are authorized to repay under the Federal student loan repayment program from $6,000 to $10,000 for any one employee in a calendar year.

Waiver of Notice of Proposed Rulemaking

Pursuant to section 553(b)(3)(B) of title 5 of the United States Code, I find that good cause exists for waiving the general notice of proposed rulemaking. Also, pursuant to 5 U.S.C. 553(d)(3), I find that good cause exists for making this rule effective in less than 30 days. These regulations implement Pub. L. 108-123, which became effective on November 11, 2003. The waiver of the requirements for proposed rulemaking and a delay in the effective date are necessary to ensure timely implementation of the law as intended by Congress.

E.O. 12866, Regulatory Review

The Office of Management and Budget has reviewed this rule in accordance with E.O. 12866.

Regulatory Flexibility Act

I certify that these regulations will not have a significant economic impact on a substantial number of small entities because they will apply to only Federal agencies and employees.

List of Subjects in 5 CFR Part 537

Administrative practice and procedure, Government employees, Wages.

Office of Personnel Management.
Kay Coles James,
Director.

Accordingly, OPM is amending 5 CFR part 537 as follows:

PART 537-REPAYMENT OF STUDENT LOANS

1. The authority citation for part 537 continues to read as follows:

Authority: 5 U.S.C. 5379.

2. In § 537.106, paragraphs (c)(1) and (c)(2) are revised to read as follows:

§ 537.106 Procedures for making loan repayments.

* * * * *

(c) * * *

(1) $10,000 per employee per calendar year; and

(2) A total of $60,000 per employee.

* * * * *

[FR Doc. 04-8939 Filed 4-19-04; 8:45 am]

BILLING CODE 6325-39-P